DEPARTMENT OF ENERGY

Federal Energy Regulatory Commission

[Docket No. RP04-276-003]

Southern Star Central Gas Pipeline, Inc.; Notice of Filing

January 5, 2005.

Take notice that on December 21, 2004, Southern Star Central Gas Pipeline, Inc. (Southern Star) tendered for filing as part of its FERC Gas Tariff, Volume No. 1, the following tariff sheets, to become effective December 1, 2004:

Fourth Revised Sheet No. 10,

Fourth Revised Sheet No. 11.

Southern Star states this filing is being made to place into effect interim reduced rates in lieu of the motion rates currently effective and subject to refund. Southern Star also states that the interim reduced rates will be billed on a month-to-month basis pending the filing of a settlement in the above referenced proceeding and the Commission's approval of such settlement. Southern Star further states that it reserves the right, and requests authority, to withdraw such interim reduced rates and to prospectively reinstate the motion rates at any time by filing with the Commission to withdraw such interim reduced rates. Southern Star indicates that the filing is expressly conditioned upon receipt of such authority to reinstitute the motion rates.

Southern Star states that copies of the tariff sheets are being mailed to Southern Star's jurisdictional customers and interested state commissions, in addition to all parties appearing on the official service list of this docket.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on January 13, 2005.

Magalie R. Salas,
Secretary.

[FR Doc. E5-113 Filed 1-11-05; 8:45 am]

BILLING CODE 6717-01-P